DEPARTMENT OF LABOR

Employment and Training Administration

[TA-W-52,612]

Solectron, Creedmoor, NC; Notice of Termination of Investigation

Pursuant to section 221 of the Trade Act of 1974, as amended, an investigation was initiated on August 19, 2003 in response to a petition filed on behalf of workers at Solectron, Creedmoor, North Carolina.

The petitioner has requested that the petition be withdrawn. Consequently, the investigation has been terminated.

Signed at Washington, DC this 29th day of September, 2003.
Richard Church,
Certifying Officer, Division of Trade Adjustment Assistance.

[FR Doc. 03-27932 Filed 11-5-03; 8:45 am]

BILLING CODE 4510-30-P